DEPARTMENT OF ENERGY

Federal Energy Regulatory Commission

Combined Notice of Filings #1

Take notice that the Commission received the following electric rate filings:

Docket Numbers: ER12-1564-001.

Applicants: Midcontinent Independent System Operator, Inc.

Description: 2014-04-07_MVP Triennial Review Compliance Filing to be effective 6/18/2012.

Filed Date: 4/7/14.

Accession Number: 20140407-5284.

Comments Due: 5 p.m. ET 6/6/14.

Docket Numbers: ER14-1548-001.

Applicants: Copper Mountain Solar 3, LLC.

Description: Copper Mountain Solar 3 LLC Market-Based Rates Tariff Supplement to be effective 4/15/2014.

Filed Date: 4/4/14.

Accession Number: 20140404-5274.

Comments Due: 5 p.m. ET 4/25/14.

Docket Numbers: ER14-1662-000.

Applicants: Black Hills Power, Inc.

Description: Planning Reserve Agreement to be effective 6/3/2014.

Filed Date: 4/4/14.

Accession Number: 20140404-5289.

Comments Due: 5 p.m. ET 4/25/14.

Docket Numbers: ER14-1663-000.

Applicants: Pacific Gas and Electric Company.

Description: Amendment to CDWR's Comprehensive Agreement, South Bay Removal to be effective 6/9/2014.

Filed Date: 4/7/14.

Accession Number: 20140407-5008.

Comments Due: 5 p.m. ET 4/28/14.

Docket Numbers: ER14-1664-000.

Applicants: Northern Indiana Public Service Company.

Description: Filing of Supplement to FERC Elec Rate Sch No. 14 to be effective 5/5/2014.

Filed Date: 4/7/14.

Accession Number: 20140407-5193.

Comments Due: 5 p.m. ET 4/28/14.

Docket Numbers: ER14-1665-000.

Applicants: Natural Gas Exchange Inc.

Description: NGX—New MBR Tariff to be effective 5/8/2014.

Filed Date: 4/7/14.

Accession Number: 20140407-5241.

Comments Due: 5 p.m. ET 4/28/14.

Docket Numbers: ER14-1666-000.

Applicants: Southern California Edison Company.

Description: Notices of Cancellation of SGIA DSA with County Sanitation Dist No. 2 of LA Cty to be effective 4/4/2014.

Filed Date: 4/7/14.

Accession Number: 20140407-5242.

Comments Due: 5 p.m. ET 4/28/14.

Docket Numbers: ER14-1667-000.

Applicants: Hardee Power Partners Limited.

Description: Notice of Cancellation of Switchyard Facility Sharing Agreement of Hardee Power Partners Limited.

Filed Date: 4/7/14.

Accession Number: 20140407-5255.

Comments Due: 5 p.m. ET 4/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2014.
Nathaniel J. Davis, Sr.,
Deputy Secretary.

[FR Doc. 2014-08444 Filed 4-14-14; 8:45 am]

BILLING CODE 6717-01-P